DEPARTMENT OF THE INTERIOR

National Park Service

[NPS-WASO-NRNHL-17393; PPWOCRADI0, PCU00RP14.R50000]

National Register of Historic Places; Notification of Pending Nominations and Related Actions

Nominations for the following properties being considered for listing or related actions in the National Register were received by the National Park Service before December 20, 2014. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by February 5, 2015. Before including your address, phone number, email address, or other personal identifying information in your comment, you should be aware that your entire comment—including your personal identifying information—may be made publicly available at any time. While you can ask us in your comment to withhold your personal identifying information from public review, we cannot guarantee that we will be able to do so.

Dated: December 24, 2014.
Alexandra Lord,
Acting Chief, National Register of Historic Places/National Historic Landmarks Program.

ARIZONA

Pima County

Shrine of Santa Rita in the Desert, 13260 E. Colossal Cave Rd., Vail, 14001231

ARKANSAS

Sebastian County

Fishback Neighborhood Historic District (Boundary Increase), Roughly bounded by Rogers & Dodson Aves., S. 24th, S. 26th & J Sts., Fort Smith, 14001232

CALIFORNIA

Los Angeles County

Thomas, Franklin Rosborough “Frank”, House, 758 Flintridge Ave., La Canada Flintridge, 14001233

Marin County

Mount Tamalpais Mountain Theater, (National-State Cooperative Program and the CCC in California State Parks MPS), 3801 Panoramic Hwy., Mill Valley, 14001234

COLORADO

Jefferson County

Bradford, Robert Boyles, Property, Address Restricted, Morrison, 14001235

DISTRICT OF COLUMBIA

District of Columbia

Chesapeake and Ohio Canal National Historical Park Historic District, (Boundary Increase), N. bank of Potomac R. from Georgetown, DC, to Cumberland, MD, Washington, 14001236

MINNESOTA

Steele County

Owatonna Commercial Historic District, Roughly bounded by N. Cedar Ave., W. & E. Broadway, W. Bridge & W. Main Sts., Owatonna, 14001237

MISSOURI

Jackson County

Grand Avenue Garage, 718 Grand Ave., Kansas City, 14001238

Westport High School, (Kansas City, Missouri School District Pre-1970 MPS), 315 E. 39th St., Kansas City, 14001239

NEW HAMPSHIRE

Cheshire County

Hutchinson House, 400 Alstead Center Rd., Alstead, 14001240

Rockingham County

New Castle Congregational Church, 65 Main St., New Castle, 14001241

SOUTH CAROLINA

Charleston County

Standard Oil Company Headquarters, 1600 Meeting St., Charleston, 14001243

Richland County

Federal Land Bank Building, 1401 Hampton St., Columbia, 14001242

WASHINGTON

Mason County

Cushman Hydroelectric Project Historic District, 21451 N. US 101, Hoodsport, 14001244

Walla Walla County

YMCA Building—Walla Walla, 28 S. Spokane St., Walla Walla, 14001245

[FR Doc. 2015-00832 Filed 1-20-15; 8:45 am]

BILLING CODE 4312-51-P